DEPARTMENT OF LABOR

Office of the Secretary

Submission for OMB Review: Comment Request

April 22, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Occupational Exposure to Hazardous Chemicals in Laboratories.

OMB Number: 1218-0131.

Frequency: On occasion; quarterly; semi-annually; monthly; and annually.

Type of Response: Recordkeeping and third party disclosure.

Affected Public: Business or other for-profit; not-for-profit institutions; Federal government; and State, local, or tribal government.

Number of Respondents: 43,300.

Number of Annual Responses: 874,984.

Estimated Time Per Response: Varies from 5 minutes for a variety of requirements (e.g., for an office clerk to develop and post exposure-monitoring results) to 8 hours for an employer to develop a Chemical Hygiene Plan.

Total Burden Hours: 270,636.

Total Annualized capital/startup costs: $0.

Total Annual Costs (operating/maintaining systems or purchasing services): $32,615,952.

Description: 29 CFR 1910.1450 requires that employers monitor employee exposure to hazardous chemicals in laboratories, to provide medical consultation and examinations, to train employees about the hazards of chemicals in their working areas, and to establish and maintain accurate records of employee exposure to hazardous chemicals. These requirements help to protect workers from occupational illnesses resulting from exposure to hazardous chemicals in laboratories.

Agency: Occupational Safety and Health Administration.

Type of Review: Extension of currently approved collection.

Title: Subpart R Steel Erection (29 CFR 1926.750 through 1926.761).

OMB Number: 1218-0241.

Frequency: On occasion.

Type of Response: Recordkeeping and third party disclosure.

Affected Public: Business or other for-profit; Federal government; and State, local, or tribal government.

Number of Respondents: 20,787.

Number of Annual Responses: 87,956.

Estimated Time Per Response: Varies from one minute for a controlling contractor to inform a steel erector to leave fall protection at the jobsite to three hours for controlling contractors to obtain approval from the project structural engineer of record before modifying anchor bolts.

Total Burden Hours: 30,339.

Total Annualized capital/startup costs: $0.

Total Annual Costs (operating/maintaining systems or purchasing services): $0.

Description: 29 CFR part 1926, Subpart R contains information-collection requirements that: Notify designated parties, especially steel erectors, that building materials, components, steel structures, and fall-protection equipment are safe for specific uses; and ensure that employees exposed to fall hazards receive specified training in the recognition and control of fall hazards.

Darrin A. King,
Acting Departmental Clearance Officer.

[FR Doc. 05-8543 Filed 4-28-05; 8:45 am]

BILLING CODE 4510-26-P